DEPARTMENT OF TRANSPORTATION

Federal Aviation Administration

Notice of Intent To Rule on Application 06-06-C-00-SAV To Impose and Use the Revenue From a Passenger Facility Charge (PFC) at Savannah/Hilton Head International Airport, Savannah, GA

AGENCY: Federal Aviation Administration (FAA), DOT.

ACTION: Notice of intent to rule on application.

SUMMARY: The FAA proposes to rule and invites public comment on the application to impose and use the revenue from a PFC at Savannah/Hilton Head International Airport under the provisions of the 49 U.S.C. 40117 and part 158 of the Federal Aviation Regulations (14 CFR part 158).

DATES: Comments must be received on or before February 13, 2006.

ADDRESSES: Comments on this application may be mailed or delivered in triplicate to the FAA at the following address: Atlanta Airports District Office, 1701 Columbia Avenue, Suite 2-260, College park, Georgia.

In addition, one copy of any comments submitted to the FAA must be mailed or delivered to Patrick Graham, Executive Director of the Savannah Airport Commission at the following address: 400 Airways Avenue, Savannah, GA 31408.

Air carriers and foreign air carriers may submit copies of written comments previously provided to The Savannah/Hilton Head International Airport under section 158.23 of part 158.

FOR FURTHER INFORMATION CONTACT: Paul Lo, Program Manager, Atlanta Airports District Office, 1701 Columbia Avenue, Suited 2-20, College Park, Georgia 30337, 404.305.7145. The application may be reviewed in person at this same location.

SUPPLEMENTARY INFORMATION: The FAA proposes to rule and invites public comment on the application to impose and use the revenue from a PFC at Savannah/Hilton Head International Airport under the provisions of the 49 U.S.C. 40117 and part 158 of the Federal Aviation Regulations (14 CFR part 158).

On December 1, 2005, the FAA determined that the application to impose and use the revenue from a PFC submitted by Savannah/Hilton Head International Airport was not substantially complete within the requirements of section 158.25 of part 158. The following items are required to complete the application:

Demonstrate compliance with 14 CFR 158.25(b)(7) for the Terminal Expansion project

Demonstrate that an Environmental Determination has been made for the Relocate Airfield Maintenance Road project

Address viable back-up plan funding sources for the Runway Re-designation project

Demonstrate that an Airspace determination has been made for the Runway Re-designation project

Demonstrate that Environmental Determinations have been made for the Relocate Runway 36 Localizer project and the Terminal Expansion project

The Savannah/Hilton Head International Airport has submitted the supplemental information to complete this application. The FAA will approve or disapprove the application, in whole or in part, not later than April 21, 2006.

The following is a brief overview of the application.

Proposed charge effective date: August 1, 2011.

Proposed charge expiration date: February 1, 2012.

Level of the proposed PFC: $4.50.

Total estimated PFC revenue: $3,271,436.

Brief description of proposed project(s):

Projects to Impose and Use:

Upgrade terminal access control system, airfield cameras, and the emergency call-out system

Relocate airfield lighting controls to the new Air Traffic Control Tower

Construct additional General Aviation connector taxiways

Runway 09/27 Runway Safety Area improvements

Airfield lighting improvements (phase I and II)

Replace Aircraft Rescue and Fire Fighting (ARFF) bridge

Expand terminal by five gates

Terminal apron expansion

Taxiway E Milling

Terminal expansion additional loading bridges and bag lifts

Relocate Runway 36 Localizer outside the runway safety area

PFC Implementation and Administration Costs Runway Re-designation

Projects to Impose-Only:

Relocate airfield maintenance road adjacent to Runway 09/27

Class or classes of air carriers which the public agency has requested not be required to collect PFCs: Air Taxi/Commercial Operators (ATCO) filing FAA form 1800-31.

Any person may inspect the application in person at the FAA office listed above under FOR FURTHER INFORMATION CONTACT.

In addition, any person may, upon request, inspect the application, notice and other documents germane to the application in person at the Savannah/Hilton Head International Airport.

Issued in College Park, Georgia on January 5, 2006.
Scott L. Seritt,
Manager, Atlanta Airports District Office, Southern Region.

[FR Doc. 06-342 Filed 1-12-06; 8:45 am]

BILLING CODE 4910-13-M